FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than January 25, 2021.

A. Federal Reserve Bank of Minneapolis (Chris P. Wangen, Assistant Vice President) 90 Hennepin Avenue, Minneapolis, Minnesota 55480-0291:

1. Ann Fishback Rivlin, Madison, Wisconsin, individually and as trustee of the John T. Fishback Irrevocable Trust, the AFR Holdings Trust, the JTF Holdings Trust, the Patricia S. Fishback GRAT 2B Trust, the Patricia S. Fishback GRAT 2C Trust, the Patricia S. Fishback GRAT 4C Trust, the Patricia S. Fishback GRAT 8C Trust, and the Patricia S. Fishback GRAT 10C Trust (collectively, “the Rivlin Trusts”), all of Brookings, South Dakota; to retain voting shares of Fishback Financial Corporation, and thereby indirectly retain voting shares of First Bank & Trust, both of Brookings, South Dakota.

In addition, the Rivlin Trusts, Thomas M. Fishback, as trustee of the Oliver V. Fishback Trust, Patricia S. Fishback, as trustee of the Robert E. Fishback GRAT 2C Trust, Paul V. Fishback, as trustee of the PVF FFC Holdings Trust, and Van D. Fishback, as trustee of the Van D. Fishback Revocable FFC Holdings Trust, all of Brookings, South Dakota; and James N. Fishback, as trustee of the JNF FFC Holdings Trust, both of Sioux Falls, South Dakota; to join the Fishback family shareholder group, a group acting in concert, to retain voting shares of Fishback Financial Corporation and thereby indirectly retain voting shares of First Bank & Trust.

Board of Governors of the Federal Reserve System, January 4, 2021.
Michele Taylor Fennell,
Deputy Associate Secretary of the Board.

[FR Doc. 2021-00090 Filed 1-7-21; 8:45 am]

BILLING CODE P